DEPARTMENT OF TRANSPORTATION

Federal Aviation Administration

Agency Information Collection Activity Under OMB Review

AGENCY: Federal Aviation Administration (FAA), DOT.

ACTION: Notice.

SUMMARY: In compliance with the Paperwork Reduction act of 1995 (44 U.S.C. 3501 et seq.), this notice announces that the Information Collection Request (ICR) abstracted below has been forwarded to the Office of Management and Budget (OMB) for review and approval of the new collection. The ICR describes the nature of the information collection and the expected burden. The Federal Register notice with a 60-day comment period soliciting comments on the following collection of information was published on April 20, 2004 on page 21179.

DATES: Comments must be submitted on or before September 8, 2005. A comment to OMB is most effective if OMB receives it within 30 days of publication.

FOR FURTHER INFORMATION CONTACT: Judy Street on (202) 267-9895.

SUPPLEMENTARY INFORMATION:

Federal Aviation Administration (FAA)

1. Title: Survey of Airman Satisfaction with Aeromedical Certification Services.

Type of Request: Approval of a new collection.

OMB Control Number: 2120-xxxx.

Form(s): FAA Pilot Medical Certification Survey.

Affected Public: A total of 4,800 airmen.

Abstract: This survey assesses airman opinion of key dimensions of service quality. These dimensions, identified by the OMB Statistical Policy Office, are courtesy, competence, reliability, and communication.

Estimated Annual Burden Hours: An estimated 1,200 hours annually.

ADDRESSES: Send comments to the Office of Information and Regulatory Affairs, Office of Management and Budget, 725 17th Street, NW., Washington, DC 20503, Attention: FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC on August 2, 2005.
Judith D. Street,
FAA Information Collection Clearance Officer, Standards and Information Division, APF-100.

[FR Doc. 05-15652 Filed 8-8-05; 8:45 am]

BILLING CODE 4910-13-M